DEPARTMENT OF COMMERCE

National Oceanic and Atmospheric Administration

[I.D. 072004A]

Proposed Information Collection; Comment Request; Sea Grant Program Application Requirements for Grants, for Sea Grant Fellowships, Including the Dean John A. Knauss Marine Policy Fellowships, and for Designation as a Sea Grant College or Sea Grant Institute

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 21, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Francis Schuler, R/SG, Room 11836, 1315 East-West Highway, Silver Spring, MD 20910-3282 (phone 301-713-2445, ext. 158).

SUPPLEMENTARY INFORMATION:

I. Abstract

The objectives of the National Sea Grant College Program are to increase the understanding, assessments, development, utilization, and conservation of the Nation's ocean, coastal, and Great Lakes resources. It accomplishes these objectives by conducting research, education, and outreach programs.

Grant monies are available for funding activities that help obtain the objectives of the Sea Grant Program. Both single and multi-project grants are awarded, with the latter representing about 80 percent of the total grant program. In addition to the SF-424 and other standard grant application requirements, three additional forms are required with a grant application. These are the Sea Grant Control Form, used to identify the organizations and personnel who would be involved in the grant; the Project Record Form, which collects summary date on projects; and the Sea Grant Budget, used in place of the SF-424A or SF-424C.

Applications are also required in order to be awarded a Sea Grant Fellowship, including the Dean John A. Knauss Marine Policy Fellowships.

The law (33 U.S.C. 1126) provides for the designation of a public or private institution of higher education, institute, laboratory, or State or local agency as a Sea Grant college or Sea Grant institute. Applications are required for designation of Sea Grant Colleges and Sea Grant Institutes.

II. Method of Collection

Responses are made in a variety of formats, including forms and narrative paper submissions. The Sea Grant Project Record Form and Sea Grant Budget Form must also be submitted in electronic format.

III. Data

OMB Number: 0648-0362.

Form Number: NOAA Forms 90-1, 90-2 and 90-4.

Type of Review: Regular submission.

Affected Public: State, Local, or Tribal Government; and Not-for-profit institutions.

Estimated Number of Respondents: 121.

Estimated Time Per Response: 30 minutes for a Sea Grant Control form; 20 minutes for a Project Record Form; 15 minutes for a Sea Grant Budget form; 20 hours for an application for designation as a Sea Grant college or Sea Grant institute; and 2 hours for an application for a Sea Grant Fellowship, including the Dean John A. Knauss Marine Policy Fellowship.

Estimated Total Annual Burden Hours: 672.

Estimated Total Annual Cost to Public: $1,377.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 19, 2004.
Gwellnar Banks,
Management Analyst, Office of the Chief Information Officer.

[FR Doc. 04-16858 Filed 7-22-04; 8:45 am]

BILLING CODE 3510-KA-S